ENVIRONMENTAL PROTECTION AGENCY

[EPA-HQ-OAR-2015-0072; FRL-9998-63-OAR]

Release of a Draft Document Related to the Review of the National Ambient Air Quality Standards for Particulate Matter

AGENCY: Environmental Protection Agency (EPA).

ACTION: Notice of availability.

SUMMARY: On or about September 4, 2019, the Environmental Protection Agency (EPA) will make available for public comment a draft document titled, Policy Assessment for Review of the National Ambient Air Quality Standards for Particulate Matter, External Review Draft (Draft PA). This draft document was prepared as part of the current review of the National Ambient Air Quality Standards (NAAQS) for Particulate Matter (PM). When final, the PA is intended to “bridge the gap” between the currently available scientific information and the judgments required of the Administrator in determining whether to retain or revise the existing NAAQS for PM.

DATES: Comments should be received on or before November 12, 2019.

ADDRESSES: Submit your comments, identified by docket ID number EPA-HQ-OAR-2015-0072, by any of the following methods:

• Federal eRulemaking Portal: https://www.regulations.gov (our preferred method). Follow the online instructions for submitting comments.

• Email: a-and-r-Docket@epa.gov. Include the Docket ID No. EPA-HQ-OAR-2015-0072 in the subject line of the message.

• Fax: (202) 566-9744. Include the Docket ID No. EPA-HQ-OAR-2015-0072 in the subject line of the message.

• Mail: U.S. Environmental Protection Agency, EPA Docket Center, Office of Air and Radiation Docket, Mail Code 28221T, 1200 Pennsylvania Avenue NW, Washington, DC 20460.

• Hand Delivery/Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this notice. Comments received may be posted without change to https://www.regulations.gov, including any personal information provided. For detailed instructions on sending comments, see the SUPPLEMENTARY INFORMATION section of this document. The draft PA will be available primarily via the internet at https://www.epa.gov/naaqs/particulate-matter-pm-air-quality-standards.

FOR FURTHER INFORMATION CONTACT: Dr. Scott Jenkins, Office of Air Quality Planning and Standards (Mail Code C504-06), U.S. Environmental Protection Agency, Research Triangle Park, NC 27711; telephone number: 919-541-1167; fax number: 919-541-5315; email: jenkins.scott@epa.gov.

SUPPLEMENTARY INFORMATION:

I. General Information

Written Comments

Submit your comments, identified by Docket ID No. EPA-HQ-OAR-2015-0072, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written submission. The written submission is considered the official submission and should include discussion of all points you wish to make. The EPA will generally not consider submissions or submission content located outside of the primary submission (i.e., on the web, cloud, or other file sharing system). For additional submission methods, the full EPA public comment policy, information about CBI or multimedia submissions, and general guidance on making effective comments, please visit https://www.epa.gov/dockets/commenting-epa-dockets.

II. Information About the Document

Two sections of the Clean Air Act (CAA) govern the establishment and revision of the NAAQS. Section 108 (42 U.S.C. 7408) directs the Administrator to identify and list certain air pollutants and then to issue air quality criteria for those pollutants. The Administrator is to list those air pollutants that in his “judgment, cause or contribute to air pollution which may reasonably be anticipated to endanger public health or welfare”; “the presence of which in the ambient air results from numerous or diverse mobile or stationary sources”; and “for which . . . [the Administrator] plans to issue air quality criteria . . .” (42 U.S.C. 7408(a)(1)(A)-(C)). Air quality criteria are intended to “accurately reflect the latest scientific knowledge useful in indicating the kind and extent of all identifiable effects on public health or welfare which may be expected from the presence of [a] pollutant in the ambient air . . .” (42 U.S.C. 7408(a)(2)). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and revise the NAAQS, if appropriate, based on the revised criteria. Section 109(d)(2) requires that an independent scientific review committee “shall complete a review of the criteria . . . and the national primary and secondary ambient air quality standards . . . and shall recommend to the Administrator any new . . . standards and revisions of the existing criteria and standards as may be appropriate . . . .” Since the early 1980s, this independent review function has been performed by the Clean Air Scientific Advisory Committee (CASAC).

Presently, the EPA is reviewing the air quality criteria and NAAQS for PM. The EPA's overall plan for this review is presented in the Integrated Review Plan for the National Ambient Air Quality Standards for Particulate Matter (IRP).¹ A draft of the Integrated Science Assessment for Particulate Matter (ISA) ² was reviewed by the CASAC at a public meeting in December 2018 (83 FR 55529, November 6, 2018) and discussed on a public teleconference in March 2019 (84 FR 8523, March 8, 2019). The draft PA announced today draws from the scientific evidence assessed in the draft ISA, together with the results of air quality and other quantitative analyses, as available. When final, the PA is intended to “bridge the gap” between the scientific and technical information available in the review and the judgments required of the Administrator in determining whether to retain or revise the existing PM NAAQS. The draft PA will be available on or about September 4, 2019, on the EPA's website at https://www.epa.gov/naaqs/particulate-matter-pm-air-quality-standards.

¹ The IRP (EPA-452/R-16-005, December 2016) is available at https://www.epa.gov/naaqs/particulate-matter-pm-standards-planning-documents-current-review.

² The draft ISA for PM (EPA/600/R-18/179, October 2018) is available at http://cfint.rtpnc.epa.gov/ncea/prod/recordisplay.cfm?deid=341593.

The EPA is soliciting advice and recommendations from the CASAC by means of a review of the draft PA at an upcoming public meeting. Information about this public meeting, including the dates and location, will be published as a separate notice in the Federal Register. Following the CASAC meeting, the EPA will consider comments received from the CASAC and the public in preparing revisions to the draft PA.

The documents briefly described above do not represent, and should not be construed to represent, any final EPA policy, viewpoint, or determination. The EPA will consider any public comments submitted in response to this notice when revising the draft PA.

Dated: September 3, 2019.
Panagiotis Tsirigotis,
Director, Office of Air Quality Planning and Standards.

[FR Doc. 2019-19627 Filed 9-10-19; 8:45 am]

BILLING CODE 6560-50-P